OFFICE OF THE UNITED STATES TRADE REPRESENTATIVE

[Dispute No. WTO/DS422]

WTO Dispute Settlement Proceeding Regarding United States—Anti-Dumping Measures on Diamond Sawblades and Parts Thereof From China

AGENCY: Office of the United States Trade Representative.

ACTION: Notice; request for comments.

SUMMARY: The Office of the United States Trade Representative (``USTR'') is providing notice that on July 22, 2011, the People's Republic of China requested consultations with the United States under the Marrakesh Agreement Establishing the World Trade Organization (``WTO Agreement'') concerning anti-dumping measures regarding diamond sawblades and parts thereof from China. That request may be found at http://www.wto.org contained in a document designated as WT/DS422/1/Add.1. USTR invites written comments from the public concerning the issues raised in China's July 22, 2011 consultation request.

DATES: Although USTR will accept any comments received during the course of the dispute settlement proceedings, comments should be submitted on or before September 19, 2011, to be assured of timely consideration by USTR.

ADDRESSES: Public comments should be submitted electronically to http://www.regulations.gov, docket number USTR-2011-0002. If you are unable to provide submissions by http://www.regulations.gov, please contact Sandy McKinzy at (202) 395-9483 to arrange for an alternative method of transmission.

If (as explained below) the comment contains confidential information, then the comment should be submitted by fax only to Sandy McKinzy at (202) 395-3640.

FOR FURTHER INFORMATION CONTACT: Jared Wessel, Assistant General Counsel, Office of the United States Trade Representative, 600 17th Street, NW., Washington, DC 20508, (202) 395-3150.

SUPPLEMENTARY INFORMATION: USTR is providing notice that consultations have been requested pursuant to the WTO Understanding on Rules and Procedures Governing the Settlement of Disputes (``DSU''). If such consultations should fail to resolve the matter and a dispute settlement panel is established pursuant to the DSU, such panel, which would hold its meetings in Geneva, Switzerland, would be expected to issue a report on its findings and recommendations within nine months after it is established.

Major Issues Raised by China

On July 22, 2011, China requested consultations regarding the antidumping duty investigation conducted by the Department of Commerce on diamond sawblades and parts thereof from China, referring in particular to the use of what it calls “zeroing” in that proceeding. Specifically, China requested consultations regarding the determination by the Department of Commerce in (1) Final Determination of Sales at Less than Fair Value and Final Partial Affirmative Determination of Critical Circumstances: Diamond Sawblades and Parts Thereof from the People's Republic of China, 71 FR 29303 (May 22, 2006) and the accompanying May 15, 2006, Issues and Decision Memorandum, as well as any amendments, replacements and/or implementing measures issued pursuant thereto; and (2) Diamond Sawblades and Parts Thereof from the People's Republic of China and Republic of Korea: Antidumping Duty Orders, 74 FR 57145 (November 4, 2009), as well as any amendments, replacements and/or implementing measures issued pursuant thereto.

China asserts that the present request for consultations constitutes an addendum to, and must be read together with, its consultation request dated February 28, 2001 regarding anti-dumping measures on certain frozen warmwater shrimp from China, WTO/DS422/1. (See WTO Dispute Settlement Proceeding Regarding United States—Anti-Dumping Measures on Certain Frozen Warmwater Shrimp From China, 76 FR 17985 (March 31, 2011)).

China alleges that so-called zeroing is inconsistent with Articles VI:1 and VI:2 of the General Agreement on Tariffs and Trade 1994 and Articles 1, 2.1, 2.4, 2.4.2, 5.8, 9.2, 9.3, and 9.4 of the Agreement on Implementation of Article VI of the General Agreement on Tariffs and Trade 1994.

Public Comment: Requirements for Submissions

Interested persons are invited to submit written comments concerning the issues raised in this dispute. Persons may submit public comments electronically to http://www.regulations.gov docket number USTR-2011-0002. If you are unable to provide submissions by http://www.regulations.gov, please contact Sandy McKinzy at (202) 395-9483 to arrange for an alternative method of transmission.

To submit comments via http://www.regulations.gov, enter docket number USTR-2011-0002 on the home page and click ``search''. The site will provide a search-results page listing all documents associated with this docket. Find a reference to this notice by selecting ``Notice'' under ``Document Type'' on the left side of the search-results page, and click on the link entitled ``Submit a Comment.'' (For further information on using the http://www.regulations.gov Web site, please consult the resources provided on the Web site by clicking on ``How to Use This Site'' on the left side of the home page.)

The http://www.regulations.gov site provides the option of providing comments by filling in a “Type Comment and Upload File” field, or by attaching a document. It is expected that most comments will be provided in an attached document. If a document is attached, it is sufficient to type “See attached” in the “Type Comment and Upload File” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to http://www.regulations.gov. The non-confidential summary will be placed in the docket and open to public inspection.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to http://www.regulations.gov. The non-confidential summary will be placed in the docket and open to public inspection.

Pursuant to section 127(e) of the Uruguay Round Agreements Act (19 U.S.C. 3537(e)), USTR will maintain a docket on this dispute settlement proceeding accessible to the public at http://www.regulations.gov, docket number USTR-2011-0002. The public file will include non-confidential comments received by USTR from the public with respect to the dispute. If a dispute settlement panel is convened or in the event of an appeal from such a panel, the U.S. submissions, any non-confidential submissions, or non-confidential summaries of submissions, received from other participants in the dispute, will be made available to the public on USTR's Web site at http://www.ustr.gov, and the report of the panel, and, if applicable, the report of the Appellate Body, will be available on the Web site of the World Trade Organization, http://www.wto.org. Comments open to public inspection may be viewed on the http://www.regulations.gov Web site.

William Busis,
Deputy Assistant United States Trade Representative for Monitoring and Enforcement.

[FR Doc. 2011-21235 Filed 8-18-11; 8:45 am]

BILLING CODE 3190-W1-P